DEPARTMENT OF THE INTERIOR

National Park Service

Final Environmental Impact Statement/General Management Plan; San Juan Island National Historical Park, San Juan County, WA; Notice of Approval of Record of Decision

SUMMARY: Pursuant to section 102(2)(C) of the National Environmental Policy Act of 1969 (Pub. L. 91-190, as amended) and the regulations promulgated by the Council on Environmental Quality (40 CFR Part 1505.2), the Department of the Interior, National Park Service has prepared and approved a Record of Decision for the Final Environmental Impact Statement for the updated General Management Plan (GMP), San Juan Island National Historical Park. The current GMP was completed in 1979; many conditions on San Juan Island and within the park have changed, particularly in the last 15-20 years. The requisite no-action “wait period” was initiated October 31, 2008, with the Environmental Protection Agency's Federal Register notification of the filing of the Final EIS.

Decision: As soon as practical San Juan Island National Historical Park will begin to implement park operations, resource management, interpretive programs, and land acquisitions (willing seller) presented and analyzed as the Preferred Alternative in the Final EIS (and which includes no substantive changes from the course of action as presented in the Draft EIS). The full range of foreseeable environmental consequences was assessed, and appropriate mitigation measures are included in the approved plan; this course of action was deemed to be the “environmentally preferred” alternative. The Final EIS identified and analyzed two additional alternatives, and corresponding mitigation strategies, which were responsive to concerns and issues the public voiced during the extensive scoping process and Draft EIS review, and to NPS conservation planning requirements.

Alternative C is the selected plan. Identified as the agency-preferred alternative in the EIS, this updated GMP broadens the scope of resource management and interpretation programs to emphasize the connections and interrelationships between the park's cultural and natural resources. Historic buildings and structures will continue to be preserved, with some additional buildings open to the public for interpretation. New facilities, trails and programs will provide opportunities for visitors to understand how the park's natural surroundings influenced the settlement and historic events on San Juan Island and help define the cultural landscapes preserved within the park. The new plan also proposes boundary adjustments at both English Camp and American Camp, which includes acquisition of land from the Washington State Department of Natural Resources (DNR), Bureau of Land Management (BLM), and one private parcel under a willing-seller condition only.

Copies: Interested parties desiring to review the Record of Decision may obtain a copy by contacting the Superintendent, San Juan Island National Historical Park, Box 429, Friday Harbor, WA 98250 or via telephone request at (360) 378-2240.

Dated: January 30, 2009.
Cicely A. Muldoon,
Acting Regional Director, Pacific West Region.

[FR Doc. E9-3990 Filed 2-24-09; 8:45 am]

BILLING CODE 4310-70-P